DEPARTMENT OF DEFENSE

Office of the Secretary

[Transmittal No. 23-91]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 23-91 and Policy Justification.

Dated: December 20, 2024.
Stephanie J. Bost,
Alternate OSD Federal Register Liaison Officer, Department of Defense.

Transmittal No. 23-91

Notice of Proposed Issuance of Letter of Offer Pursuant to Section 36(b)(1) of the Arms Export Control Act, as Amended

(i) Prospective Purchaser: Government of Australia

(ii) Total Estimated Value:

Major Defense Equipment * | $0
Other | $250 million
TOTAL | $250 million

(iii) Description and Quantity or Quantities of Articles or Services under Consideration for Purchase: The Government of Australia has requested to buy services to support the Tomahawk Weapon System, including the below non-Major Defense Equipment (MDE):

Major Defense Equipment:

None

Non-MDE:

General Tomahawk Weapons System support services; logistics support management; material support; engineering technical support; management of technical data; and other related elements of logistics and program support.

(iv) Military Department: Navy (AT-P-FBK)

(v) Prior Related Cases, if any: (AT-P-LGJ)

(vi) Sales Commission, Fee, etc., Paid, Offered, or Agreed to be Paid: None known

(vii) Sensitivity of Technology Contained in the Defense Article or Defense Services Proposed to be Sold: None

(viii) Date Report Delivered to Congress: January 10, 2024

* As defined in Section 47(6) of the Arms Export Control Act.

POLICY JUSTIFICATION

Australia—General Tomahawk Weapons System Support Services Uplift

The Government of Australia has requested to buy services to support the Tomahawk Weapon System, including general weapons support services; logistics support management; material support; engineering technical support; management of technical data; and other related elements of logistics and program support. The estimated total cost is $250 million.

This proposed sale will support the foreign policy and national security objectives of the United States (U.S.). Australia is one of our most important allies. The strategic location of this political and economic power contributes significantly to ensuring peace and economic stability in the Western Pacific. It is vital to the U.S. national interest to assist our ally in developing and maintaining a strong and ready self-defense capability.

The proposed sale will allow Australia to better utilize the Tomahawk Weapon System it is procuring and ensure appropriate weapon pairing is evaluated to identify defined targets more precisely. It will also assist and contribute to Australia's joint maritime weapon technology development, analysis, and implementation; support multiple lines of effort to enhance interoperability and interchangeability with the U.S.; and uplift joint warfighting operational effects.

The proposed sale of this support will not alter the basic military balance in the region.

The principal contractor(s) will be determined as the Government of Australia identifies its specific annual and quarterly requirements for weapons uplift support. There are no known offset agreements in connection with this potential sale.

Implementation of this proposed sale will not require the assignment of any additional U.S. Government or contractor representatives to Australia.

There will be no adverse impact on U.S. defense readiness as a result of this proposed sale.

[FR Doc. 2024-31137 Filed 12-30-24; 8:45 am]

BILLING CODE 6001-FR-P